DEPARTMENT OF HEALTH AND HUMAN SERVICES

Centers for Disease Control and Prevention

Statement of Organization, Functions, and Delegations of Authority

Part C (Centers for Disease Control and Prevention) of the statement of Organization, Functions, and Delegations of authority of the Department of Health and Human Services (45 FR 67772-76, dated October 14, 1980, and corrected at 45 FR 69296, October 20, 1980, as amended most recently at 70 FR 34772-34774, dated June 15, 2005) is amended to reflect the establishment of the Coordinating Center for Health Promotion at the Centers for Disease Control and Prevention.

Section C-B, Organization and Functions, is hereby amended as follows:

After the mission statement for the Centers for Disease Control and Prevention (C), insert the following:

Coordinating Center for Health Promotion (CU). The mission of the Coordinating Center or Health Promotion (CCHP) is to plan, direct and coordinate a national program for the prevention of premature, mortality, morbidity and disability due to chronic diseases. genomics, disabilities (physical and developmental), birth defects, reproductive outcomes and adverse consequences of hereditary conditions including blood disorders.

In carrying out its mission, the CCHP (1) Plans, directs, and conducts epidemiologic, behavioral and laboratory investigations, technology translation, demonstrations, and programs directed toward the definition, prevention, and control of chronic conditions, genomics, disabilities, birth defects, reproduction outcomes, hereditary conditions, and promote health behaviors and practices in conjunction with State and local agencies; (2) provide leadership in the development, evaluation, and dissemination of effective health promotion activities and risk reduction programs; (3) plans, develops, and maintains systems of surveillance for chronic diseases and conditions, reproductive outcomes, birth defects, behavioral and other risk factors; (4) plans, directs, and conducts epidemiologic and evaluative investigations related to issues of access, utilization, and quality of health care services aimed at the prevention and control of chronic conditions, birth defects, reproductive outcomes and the adverse consequences of hereditary blood disorders; (5) serve as the primary focus for assisting States and local agencies through grants and cooperative agreements and other mechanisms in establishing and maintaining chronic disease, genomics, disability, birth defects, reproductive health, and hereditary blood disorders programs; (6) provide training and technical consultation and assistance to States and local agencies in planning, establishing, maintaining, and evaluating prevention and control strategies for chronic conditions, genomics, disabilities, birth defects, reproductive outcomes and the adverse consequences of hereditary conditions; (7) plan, coordinate and conduct laboratory activities related to selected chronic diseases, birth defects, disabilities and genomics; (8) provide technical consultation and assistance to other nations in the development and implementation of programs related to chronic disease prevention, genomics, disabilities, birth defects, reproductive outcomes and the adverse consequences of hereditary conditions including blood disorders; (9) develops and directs workforce development activities within CCHP and coordinates the recruitment, assignment, technical supervision, and career development of staff, with emphasis on goals for equal employment opportunity and diversity where appropriate; and, (10) collaborates with other Centers and offices of CDC, other PHS agencies, domestic and international public health agencies, and voluntary and professional health organizations.

Office of the Director (CUA). (1) Manages, directs, coordinates, and evaluates the activities of the Coordinating Center for Health Promotion (CCHP); (2) develops overarching goals and objectives and provides leadership, policy formation, scientific oversight and guidance in program planning and development; (3) coordinates assistance provided by CCHP to other CDC components, other Federal, State, and local agencies, the private sector and other nations; (4) provides and coordinates resource management support services for CCHP, including guidance and coordination for grants, cooperative agreements, and other assistance mechanisms; (5) coordinates, manages, and analyzes broad-based surveillance activities in support of programs carried out by CCHP; (6) develops and directs workforce development activities within CCHP and coordinates the recruitment, assignment, technical supervision, and career development of staff, with emphasis on goals for equal employment opportunity and diversity where appropriate; (7) provides technical information services to facilitate the dissemination of significant information to CCHP staff, various Federal, state and local agencies, professional and voluntary organizations, and selected target populations; and, (8) collaborates as appropriate with other Coordinating Centers, Centers, Offices, Institutes of CDC, and other PHS agencies, and other Federal agencies.

Dated: July 29, 2005.
William H. Gimson,
Chief Operating Officer, Centers for Disease Control and Prevention (CDC).

[FR Doc. 05-15799 Filed 8-9-05; 8:45 am]

BILLING CODE 4160-18-M